ENVIRONMENTAL PROTECTION AGENCY

[EPA-HQ-OA-2019-0292; FRL-8752-01-OA]

Proposed Information Collection Request; Comment Request; Estimating Benefits of Surface Water Quality Improvements

AGENCY: Environmental Protection Agency (EPA).

ACTION: Notice.

SUMMARY: The Environmental Protection Agency is planning to submit an information collection request (ICR), “Estimating Benefits of Surface Water Quality Improvements” (EPA ICR No. 2588.01, OMB Control No. 2080-NEW) to the Office of Management and Budget (OMB) for review and approval in accordance with the Paperwork Reduction Act. Before doing so, EPA is soliciting public comments on specific aspects of the proposed information collection as described below. This is a request for approval of a new collection. An Agency may not conduct or sponsor and a person is not required to respond to a collection of information unless it displays a currently valid OMB control number.

DATES: Comments must be submitted on or before November 29, 2021.

ADDRESSES: Submit your comments, referencing Docket ID No. EPA-HQ-OA-2019-0292, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Chris Moore, OA/OP/NCEE, 1200 Pennsylvania Ave. NW, Washington, DC 20004; telephone number 202-566-2348; fax number: 202-566-2448; email address: moore.chris@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Researchers and analysts in EPA's Office of Research and Development (ORD), Office of Water (OW), and National Center for Environmental Economics (NCEE) are collaborating to improve EPA's ability to perform benefit cost analysis on changes in surface water quality (lakes, rivers, and streams). We are requesting approval to conduct a survey that will provide data critical to that effort.

A number of non-market valuation methods can be used to estimate the economic benefits of improving environmental quality, but they often require more time and resources than federal agencies have to complete the regulatory impact analysis. Benefit transfer can provide reasonably accurate estimates of economic benefits under certain conditions with fewer resources and far less time. Federal agencies rely on benefit transfer often when analyzing the economic impacts of environmental regulation. In conducting benefit cost analyses of surface water regulations, however, it has become apparent that there is a lack of data on some features of policy analysis that have forced analysts to make assumptions about the relationships between a number of factors. This information collection is necessary to provide insight on those relationships and improve the EPA's and other federal agencies' ability to perform benefit transfer in regulatory analysis.

Analysts in the Office of Policy, the Office of Water, and the Office of Research and Development have begun work on an integrated hydrological and economic model that will be capable of estimating benefits for a wide range of surface water regulations. The data collected with this survey will inform that effort. Analysts elsewhere in the EPA and other federal agencies may also be able to use the results of this study to improve benefit transfer in other applications as well.

The survey will be administered electronically via the internet. An internet-based survey mode provides several advantages in efficiency and accuracy over other collection modes. It is also necessary to meet several of our research objectives described in the ICR Supporting Statement. EPA is requesting comment on two alternative approaches to sample recruitment: A probability-based internet panel, and a mail invitation to the internet survey. Some sections of the draft Supporting Statement cannot be completed until a recruitment mode has been chosen. Where possible, the draft Supporting Statement provides details on both approaches. EPA will consider public comments, expert opinion, and peer reviewed literature before choosing a recruitment mode. The final Supporting Statement will reflect the chosen mode, present all details of that approach, and be submitted for public comment.

Participation in the survey will be voluntary and the identity of the participants will be kept confidential.

Form Numbers: None.

Respondents/affected entities: Eligible respondents for this survey will be U.S. civilian, non-institutionalized individuals, age 18 years and older.

Respondent's obligation to respond: Voluntary.

Estimated number of respondents: 6,120.

Frequency of response: One-time collection.

Total estimated burden: 2,040 hours.

Total estimated cost: Total estimated burden and cost for Agency $670,391.

Changes in Estimates: This is a new collection. The survey is a one-time data collection activity.

Al McGartland,
Office Director, National Center for Environmental Economics, Office of Policy.

[FR Doc. 2021-21081 Filed 9-28-21; 8:45 am]

BILLING CODE 6560-50-P